DEPARTMENT OF COMMERCE

National Oceanic and Atmospheric Administration

Proposed Information Collection; Topographic and Bathymetric Data Survey

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 20, 2010.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Chris Ellis at NOAA Coastal Services Center, (843) 740-1195 or Chris.Ellis@noaa.gov.

SUPPLEMENTARY INFORMATION:

I. Abstract

This survey will be used by the National Oceanic and Atmospheric's (NOAA's) Coastal Services Center to obtain information from our customers on the location of topographic and bathymetric data that are publicly available. The information about the data will be used to construct a Topographic and Bathymetric Data Inventory, an index of the best-available elevation data sets by region. Twenty-one pieces of information about each dataset will be collected to give an accurate picture of data quality and give users of the Topographic and Bathymetric Data Inventory access to each dataset. The end goal of this collection is to provide a comprehensive, publicly available, topographic and bathymetric data, Web resource.

II. Method of Collection

Initial contact with local agencies will be made by telephone to ensure adequate routing of the survey instrument. Information may be submitted via an online survey or by fax/mail or by telephone.

III. Data

OMB Control Number: None.

Form Number: None.

Type of Review: Regular submission (request for a new information collection).

Affected Public: Federal government, State, local, or Tribal government.

Estimated Number of Respondents: 700.

Estimated Time per Response: Initial telephone screening 5 minutes, survey, 10 minutes.

Estimated Total Annual Burden Hours: 117.

Estimated Total Annual Recordkeeping/Reporting Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 16, 2010.
Gwellnar Banks,
Management Analyst, Office of the Chief Information Officer.

[FR Doc. 2010-17842 Filed 7-21-10; 8:45 am]

BILLING CODE 3510-JE-P